RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Supplement to Claim of Person Outside the United States.

(2) Form(s) submitted: G-45.

(3) OMB Number: 3220-0155.

(4) Expiration date of current OMB clearance: 9/30/2001.

(5) Type of request: Extension of a currently approved collection.

(6) Respondents: Program planning or management.

(7) Estimated annual number of respondents: 100.

(8) Total annual responses: 100.

(9) Total annual reporting hours: 17.

(10) Collection description: Under Public Law 98-21, the Tier I or the overall minimum portion of an annuity and Medicare benefits payable under the Railroad Retirement Act to certain beneficiaries living outside the United States may be withheld. The collection obtains the information needed by the Railroad Retirement Board to implement the benefit withholding provisions of Pub. L. 98-21.

FOR FURTHER INFORMATION CONTACT: Copies of the forms and supporting documents can be obtained from Chuck Mierzwa, the agency clearance officer (312-751-3363). Comments regarding the information collection should be addressed to Ronald J. Hodapp, Railroad Retirement Board, 844 North Rush Street, Chicago, Illinois 60611-2092 and the OMB reviewer, Joe Lackey (202-395-7316), Office of Management and Budget, Room 10230, New Executive Office Building, Washington, DC 20503.

Chuck Mierzwa,
Clearance Officer.

[FR Doc. 01-13211 Filed 5-24-01; 8:45 am]

BILLING CODE 7905-01-M